DEPARTMENT OF COMMERCE

International Trade Administration

[C-122-841]

Carbon and Certain Alloy Steel Wire Rod from Canada: Final Results of Countervailing Duty Changed Circumstances Review and Revocation of Countervailing Duty Order, in Whole

AGENCY: Import Administration, International Trade Administration, Department of Commerce

ACTION: Notice of Final Results of Changed Circumstances Review of the Countervailing Duty Order and Revocation of Countervailing Duty Order, in Whole.

SUMMARY: On November 3, 2003, in response to a request by domestic producers of the subject merchandise, the Department of Commerce (the “Department”) published a notice of initiation of a changed circumstances review with the intent to revoke, in whole, the countervailing duty order on carbon and certain alloy steel wire rod from Canada. See Carbon and Certain Alloy Steel Wire Rod from Canada: Initiation of Countervailing Duty Changed Circumstances Review, 68 FR 62282 (November 3, 2003) (“Initiation Notice”).

On December 12, 2003, the Department published the preliminary results of the changed circumstances review of the countervailing duty order preliminarily finding that there was a reasonable basis to believe that changed circumstances exist sufficient to warrant revocation of the CVD order because domestic producers expressed no interest in continuation of the order. Therefore, the Department preliminarily revoked the order, in whole. See Carbon and Certain Alloy Steel Wire Rod from Canada: Preliminary Results of Countervailing Duty Changed Circumstances Review and Intent to Revoke Order, 68 FR 69384 (December 12, 2003) (“Preliminary Results”). We did not receive any comments on the Preliminary Results objecting to the revocation of this order, in whole, and thus conclude that substantially all domestic producers lack interest in the relief provided by this order. Accordingly, we are revoking the countervailing duty order on carbon and certain alloy steel wire rod from Canada.

DATES: January 23, 2004.

FOR FURTHER INFORMATION CONTACT: S. Anthony Grasso, Import Administration, International Trade Administration, U.S. Department of Commerce, 14th Street and Constitution Avenue, NW, Washington, DC 20230; telephone (202) 482-3853.

SUPPLEMENTARY INFORMATION:

Background

The Department published the countervailing duty (“CVD”) order on carbon and certain alloy steel wire rod from Canada on October 22, 2002. See Notice of Countervailing Duty Orders: Carbon and Certain Alloy Steel Wire Rod from Brazil and Canada, 67 FR 64871 (October 22, 2002). On October 1, 2003, the Department received a request from Georgetown Steel Company (formerly GS Industries), Gerdau Ameristeel US Inc. (formerly Co-Steel Raritan), Keystone Consolidated Industries, Inc., and North Star Steel Texas, Inc., the petitioners in the original investigation, that the Department initiate a changed circumstances review for purposes of revoking the CVD order. The basis for the petitioners' request is that they are no longer interested in maintaining the CVD order or in the imposition of CVD duties on the subject merchandise from Canada.

On November 3, 2003, the Department published a notice of initiation of a changed circumstances review of the CVD order on carbon and certain alloy steel wire rod products from Canada. See Initiation Notice, 68 FR 62282. In the Initiation Notice, we provided interested parties an opportunity to submit comments for consideration in the Department's preliminary results. The Department did not receive any comments within the time limits established. On November 18, 2003, a respondent to the original proceeding, Ispat Sidbec, Inc. (“Ispat”), submitted a letter to the Department stating that “all three parties wish to advise the Department that they agree to the outcome of the review and, further, request that, pursuant to 19 CFR 351.216(e), the Department render its final results of review within 45 days of initiation of the review or sooner.” Ispat claimed its letter represented the position of the only parties to the proceeding, namely, Ispat, the Government of Quebec, and the U.S. producers that filed the original petition.

On December 12, 2003, the Department published the Preliminary Results of the changed circumstances review. In the Preliminary Results, we afforded interested parties an opportunity to submit comments for consideration in the Department's Final Results. We did not receive any comments following the publication of the Preliminary Results.

Scope of the Order

The merchandise covered by this order is certain hot-rolled products of carbon steel and alloy steel, in coils, of approximately round cross section, 5.00 mm or more, but less than 19.00 mm, in solid cross-sectional diameter.¹

¹ On November 12, 2003, the Department published the final results of a changed circumstances review modifying the scope to exclude certain grade 1080 tire cord quality wire rod and grade 1080 tire bead quality wire rod. This modification is for all entries of subject merchandise entered, or withdrawn from warehouse, for consumption on or after July 24, 2003. We note that for the purposes of this changed circumstances review, the revocation of the order would be based on the original scope. See Carbon and Certain Alloy Steel Wire Rod from Brazil, Canada, Indonesia, Mexico, Moldova, Trinidad and Tobago, and Ukraine: Final Results of Changed Circumstances Review, 68 FR 64079 (November 12, 2003).

Specifically excluded are steel products possessing the above-noted physical characteristics and meeting the Harmonized Tariff Schedule of the United States (“HTSUS”) definitions for (a) stainless steel; (b) tool steel; (c) high nickel steel; (d) ball bearing steel; and (e) concrete reinforcing bars and rods. Also excluded are (f) free machining steel products (i.e., products that contain by weight one or more of the following elements: 0.03 percent or more of lead, 0.05 percent or more of bismuth, 0.08 percent or more of sulfur, more than 0.04 percent of phosphorus, more than 0.05 percent of selenium, or more than 0.01 percent of tellurium).

Also excluded from the scope are 1080 grade tire cord quality wire rod and 1080 grade tire bead quality wire rod. Grade 1080 tire cord quality rod is defined as: (i) Grade 1080 tire cord quality wire rod measuring 5.0 mm or more but not more than 6.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.15 mm; (vi) capable of being drawn to a diameter of 0.30 mm or less with 3 or fewer breaks per ton, and (vii) containing by weight the following elements in the proportions shown: (1) 0.78 percent or more of carbon, (2) less than 0.01 percent of aluminum, (3) 0.040 percent or less, in the aggregate, of phosphorus and sulfur, (4) 0.006 percent or less of nitrogen, and (5) not more than 0.15 percent, in the aggregate, of copper, nickel and chromium.

Grade 1080 tire bead quality rod is defined as: (i) Grade 1080 tire bead quality wire rod measuring 5.5 mm or more but not more than 7.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.2 mm; (vi) capable of being drawn to a diameter of 0.78 mm or larger with 0.5 or fewer breaks per ton; and (vii) containing by weight the following elements in the proportions shown: (1) 0.78 percent or more of carbon, (2) less than 0.01 percent of soluble aluminum, (3) 0.040 percent or less, in the aggregate, of phosphorus and sulfur, (4) 0.008 percent or less of nitrogen, and (5) either not more than 0.15 percent, in the aggregate, of copper, nickel and chromium (if chromium is not specified), or not more than 0.10 percent in the aggregate of copper and nickel and a chromium content of 0.24 to 0.30 percent (if chromium is specified).

The designation of the products as “tire cord quality” or “tire bead quality” indicates the acceptability of the product for use in the production of tire cord, tire bead, or wire for use in other rubber reinforcement applications such as hose wire. These quality designations are presumed to indicate that these products are being used in tire cord, tire bead, and other rubber reinforcement applications, and such merchandise intended for the tire cord, tire bead, or other rubber reinforcement applications is not included in the scope. However, should petitioners or other interested parties provide a reasonable basis to believe or suspect that there exists a pattern of importation of such products for other than those applications, end-use certification for the importation of such products may be required. Under such circumstances, only the importers of record would normally be required to certify the end use of the imported merchandise.

All products meeting the physical description of subject merchandise that are not specifically excluded are included in this scope.

The products under investigation are currently classifiable under subheadings 7213.91.3010, 7213.91.3090, 7213.91.4510, 7213.91.4590, 7213.91.6010, 7213.91.6090, 7213.99.0031, 7213.99.0038, 7213.99.0090, 7227.20.0010, 7227.20.0020, 7227.20.0090, 7227.20.0095, 7227.90.6051, 7227.90.6053, 7227.90.6058, and 7227.90.6059 of the HTSUS. Although the HTSUS subheadings are provided for convenience and customs purposes, the written description of the scope of this proceeding is dispositive.

Final Results of Review and Revocation of the Countervailing Duty Order, in Whole

Pursuant to section 751(d)(1) of the 1930 Tariff Act, as amended (the “Act”), and 19 CFR 351.222(g), the Department may revoke an antidumping or CVD order, in whole or in part, based on a review under section 751(b) of the Act (i.e., a changed circumstances review). Section 751(b)(1) of the Act requires a changed circumstances review to be conducted upon receipt of a request that shows changed circumstances sufficient to warrant a review. Section 782(h)(1) of the Act gives the Department the authority to revoke an order if producers accounting for substantially all of the production of the domestic like product have expressed a lack of interest in the continuation of the order. Section 351.222(g) of the Department's regulations provides that the Department will conduct a changed circumstances administrative review under 19 CFR 351.216, and may revoke an order (in whole or in part), if it concludes that (i) producers accounting for substantially all of the production of the domestic like product to which the order pertains have expressed a lack of interest in the relief provided by the order, in whole or in part, or (ii) if other changed circumstances sufficient to warrant revocation exist. The Department has interpreted “substantially all” production normally to mean at least 85 percent of domestic production of the like product. See Certain Tin Mill Products From Japan: Final Results of Changed Circumstances Review, 66 FR 52109 (October 12, 2001); see also, 19 CFR 351.208(c).

As noted above and in the Preliminary Results, the petitioners requested this changed circumstances review on the basis that they are no longer interested in maintaining the CVD order or in the imposition of CVD duties on the subject merchandise. Because the Department did not receive any comments in response to the Initiation Notice or the Preliminary Results opposing this changed circumstances review or the decision to revoke the CVD order, in whole, we find that producers accounting for substantially all of the production of the domestic like product to which this order pertains, lack interest in the relief provided by the order. In accordance with sections 751(b), 751(d), and 782(h) of the Act and 19 CFR 351.216, the Department determines that there is a reasonable basis to believe that changed circumstances exist sufficient to warrant revocation of the order. Therefore, the Department is revoking the order on carbon and certain alloy steel wire rod from Canada, in whole, with regard to the products described above under the “Scope of the Order” section.

Instructions to Customs

In accordance with 19 CFR 351.222, the Department will instruct U.S. Customs and Border Protection (“CBP”) to liquidate without regard to applicable countervailing duties, and refund any estimated countervailing duties collected on, all unliquidated entries of the merchandise subject to the order, as described above under the “Scope of the Order” section, entered, or withdrawn from warehouse, for consumption on or after February 8, 2002, i.e., the publication date of the Department's preliminary determination (see Preliminary Affirmative Countervailing Duty Determination: Carbon and Certain Alloy Steel Wire Rod from Canada, 67 FR 5984). In accordance with section 778 of the Act, we will also instruct CBP to pay interest on such refunds with respect to the subject merchandise entered, or withdrawn from warehouse, for consumption on or after October 22, 2002, the date of publication in the Federal Register of the CVD order.

The Department will issue appropriate assessment instructions directly to CBP within 15 days of publication of these final results of review.

Notification Regarding APOs

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

We are issuing and publishing this determination and notice in accordance with sections 751(b)(1) and 777(i)(1) of the Tariff Act and sections 351.216, 351.221, and 351.222 of the Department's regulations.

Dated: January 16, 2004.
James J. Jochum,
Assistant Secretary for Import Administration.

[FR Doc. 04-1470 Filed 1-22-04; 8:45 am]

BILLING CODE 3510-DS-S